DEPARTMENT OF DEFENSE

Office of the Secretary

Defense Science Board

AGENCY: Department of Defense.

ACTION: Notice of advisory committee meetings.

SUMMARY: The Defense Science Board Task Force on Ends vice Means will meet in closed session on March 25, 2003; April 30, 2003; and May 20, 2003, at SAIC, 4001 N. Fairfax Drive, Arlington, VA. The Task Force will review and evaluate alternative ways of managing US foreign intelligence endeavors in support of national security, by focusing not on the means by which intelligence information is collected, but rather the ends it is to serve.

The mission of the Defense Science Board is to advise the Secretary of Defense and the Under Secretary of Defense for Acquisition, Technology & Logistics on scientific and technical matters as they affect the perceived needs of the Department of Defense. At these meetings, the Defense Science Board Task Force will: define the DoD needs for better integrated intelligence products (e.g., products to support DoD missions from an effects based perspective); review and evaluate, within the current context, recent, extant prescriptions for reform of US intelligence; identify those individuals currently charged with answering intelligence questions and ascertain the actual degree of influence they wield over the process; solicit from current Program Managers in the Intelligence Community their ideas on how the processes they now manage can be made more responsive to intelligence ends; articulate the vision for managing US intelligence according to “ends” instead of “means”; prescribe the core changes that would be required to reorient the US Intelligence Community toward the ends satisfied rather than means undertaken; and evaluate the potential costs and benefits of such reformation, recognizing the debilitation that can accompany significant change.

In accordance with section 10(d) of the Federal Advisory Committee Act, Pub. L. 92-463, as amended (5 U.S.C. App. II), it has been determined that these Defense Science Board Task Force meetings concern matters listed in 5 U.S.C. 552b(c)(1) and that, accordingly, these meetings will be closed to the public.

Dated: March 5, 2003.
Patricia L. Toppings,
Alternate OSD Federal Register Liaison Officer, Department of Defense.

[FR Doc. 03-5868 Filed 3-11-03; 8:45 am]

BILLING CODE 5001-08-M